DEPARTMENT OF HEALTH AND HUMAN SERVICES

National Institutes of Health

National Institute on Deafness and Other Communication Disorders; Amended Notice of Meeting

Notice is hereby given of a change in the meeting of the National Institute on Deafness and Other Communications Disorders Special Emphasis Panel, July 19, 2001, 10:00 am to July 19, 2001, 11:30 am, 6120 Executive Blvd., Executive Plaza South, Rockville, MD 20892 which was published in the Federal Register on July 11, 2001, 66 FR 36293.

The meeting to be held July 19, 2001 will now be held on August 9, 2001. The meeting is closed to the public.

Dated: August 1, 2001.
LaVerne Y. Stringfield,
Director, Office of Federal Advisory Committee Policy.

[FR Doc. 01-20201 Filed 8-10-01; 8:45 am]

BILLING CODE 4140-01-M